DEPARTMENT OF THE INTERIOR

Bureau of Indian Affairs

[190A2100DD/AAKC001030/A0A51010.999900]

Land Acquisitions; the Dry Creek Rancheria Band of Pomo Indians, California

AGENCY: Bureau of Indian Affairs, Interior.

ACTION: Notice.

SUMMARY: The Assistant Secretary—Indian Affairs has made a final determination to acquire 6.14 acres, more or less, into trust for the Dry Creek Rancheria Band of Pomo Indians, California on October 24, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register. On October 24, 2018, the Assistant Secretary—Indian Affairs issued a decision to accept land in trust for the Dry Creek Rancheria Band of Pomo Indians, California under the authority of Section 5 of the Indian Reorganization Act of 1934 (48 Stat. 984).

Dry Creek Rancheria Band of Pomo Indians, California Sonoma County, California

Legal description containing 6.14 acres, more or less

The Land Referred To Herein Below Is Situated In The State Of California, County Of Sonoma, Unincorporated And Described As Follows:

Parcel One

Being a portion of the Northwest quarter of Section 2, Township 9 North, Range 9 West Mount Diablo Meridian and lying in the Rancho Sotoyome, said portion being more particularly described as follows:

BEGINNING at a 2″ iron pipe on the Township line between Township 10 North, Range 9 West and Township 9 North, Range 9 West, said pipe marks the boundary between the lands of Basalt Rock Company, Inc., recorded in Book 1665 of Official Records, Page 241 and P. and F. Di Regolo, recorded in Book 1634 of Official Records, Page 591; thence South 35°15′ East 1679.33 feet to a 3/4″ iron pipe at the Northerly edge of the Healdsburg-Alexander Valley County Road, at Engineer's Station “A” 145 + 01.80; thence along the County Road, South 47°18′30″ West, 21.95 feet; thence South 45°22′30″ West 148.07 feet; thence South 44°18′20″ West 84.12 feet; thence South 48°43′10″ West 110.03 feet; thence North 41°16′50″ West, 4.96 feet; thence South 47°27′ West 200.00 feet; thence North 42°33′ West, 3.32 feet; thence South 47°18′30″ West, 49.0 feet; thence North 42°41′30″ West 3.0 feet; thence South 47°18′30″ West 316.0 feet; thence North 42°41′30″ West, 20.0 feet; thence South 47°18′30″ West, 178.11 feet; thence curving to the right from a tangent that bears South 47°18′30″ West with a radius of 700.00 feet for a distance of 132.0 feet; thence North 31°53′15″ West 30.0 feet; thence curving to the right from a tangent that bears South 58°06′45″ West, with a radius of 670.00 feet for a distance of 125.85 feet to the true point of beginning of the hereinafter described parcel of land.

Beginning at the point above described as the TRUE POINT OF BEGINNING: thence curving to the right along the Northerly edge of the Healdsburg-Alexander Valley County Road, from a tangent that bears South 68°52′30″ West, with a radius of 670.0 feet for a distance of 450.92 feet; thence North 76°10′10″ West, 79.51 feet; thence North 72°33′50″ West 361.76 feet to the lands of McCutchan; thence leaving said County Road, North 1°00′ East 200.33 feet to a ½″ iron pipe; thence leaving the lands of McCutchan, North 89°08′ East 176.72 feet to a ½″ iron pipe; thence South 76°12′ East 229.63 feet to a ½″ iron pipe; thence North 75°53′ East 145.55 feet to a ½″ iron pipe; thence North 85°38′ East 263.37 feet to a ½″ iron pipe; thence South 76°05′ East, 158.33 feet to a ½″ iron pipe; thence South 18°45′ West 294.58 feet to a ½″ iron pipe and the point of beginning.

Parcel Two

A nonexclusive right of way for purposes of ingress and egress over the following described parcel of land:

BEGINNING at the point above described as the true point of beginning; thence North 18°45′ East 294.58 feet to a ½″ iron pipe; thence South 54°18′ East, 222.17 feet to a ½″ iron pipe and the Northerly line of Healdsburg-Alexander Valley County Road; thence South 47°18′30″ West, 57.19 feet along said County Road; thence curving to the right from a tangent that bears South 47°18′30″ West, with a radius of 700.00 feet for a distance of 132.00 feet; thence North 31°53′ 15″ West, 30.00 feet; thence curving to the right from a tangent that bears South 58°06′45″ West with a radius of 670.00 feet for a distance of 125.85 feet to the point of beginning.

Parcel Three

AN EASEMENT of access to the Russian River from all points on the Northerly boundary of the foregoing 6.14 parcel across the lands of Basalt Rock Company, Inc. contiguous to such boundary and said river. BEING the same land and Easements described as Parcel 2 in Deed recorded in Book 1721 of Official Records, at Page 81, Sonoma County Records.

APN: 091-020-016

Dated: October 24, 2018.
Tara Sweeney,
Assistant Secretary—Indian Affairs.

[FR Doc. 2018-26782 Filed 12-10-18; 8:45 am]

BILLING CODE 4337-15-P